DEPARTMENT OF THE TREASURY

Internal Revenue Service

Privacy Act of 1974, as Amended

AGENCY: Internal Revenue Service, Treasury.

ACTION: Notice of Proposed New Privacy Act System of Records.

SUMMARY: In accordance with the requirements of the Privacy Act of 1974, as amended, 5 U.S.C. 552a, the Department of the Treasury, Internal Revenue Service, gives notice of a proposed new system of records entitled “Whistleblower Office Records—Treasury/IRS 42.005.”

DATES: Comments must be received no later than February 8, 2008. This new system of records will be effective February 19, 2008 unless the IRS receives comments that would result in a contrary determination.

ADDRESSES: Comments should be sent to the Director, Whistleblower Office, SE:WO, Internal Revenue Service, 1111 Constitution Avenue, NW., Washington, DC 20224. Comments will be available for inspection and copying in the Freedom of Information Reading Room (Room 1621), at the above address. The telephone number for the Reading Room is (202) 622-5164.

FOR FURTHER INFORMATION CONTACT: Director, Whistleblower Office, SE:WO, Internal Revenue Service, 1111 Constitution Avenue, NW., Washington, DC 20224.

SUPPLEMENTARY INFORMATION: The proposed system will allow the IRS to maintain records pertinent to determining claimants' eligibility for and amount of awards pursuant to 26 U.S.C. 7623. The Whistleblower Office was created by section 406 of the Tax Relief and Health Care Act of 2006. Prior to its amendment by Section 406, 26 U.S.C. 7623 authorized the IRS to pay awards to claimants who provided information that led to the collection of taxes. The IRS maintained a decentralized procedure for processing requests for such awards. Section 406 amended 26 U.S.C. 7623 to establish criteria for the payment of certain awards, and to provide a judicial remedy in the U.S. Tax Court for review of these award determinations. Section 406 of the Act amends section 7623 of the Internal Revenue Code concerning the payment of awards to certain claimants denominated as “whistleblowers.” New section 7623(b) provides an award floor based on information regarding tax law violations provided by these claimants. Claimants are eligible for section 7623(b) awards based on the amount collected as a result of any administrative or judicial actions resulting from the information provided.

The Whistleblower Office has responsibility for the administration of a whistleblower program, and the Secretary is required to provide an annual report to Congress on the use of section 7623. Records pertaining to award applications filed prior to the creation of the Whistleblower Office, for which an award has not yet been determined, will also be maintained in this system of records. An exemption rule is being published separately under the rules section of the Federal Register.

The report of a new system of records, as required by 5 U.S.C. 552a(r) of the Privacy Act, has been submitted to the Committee on Government Reform of the House of Representatives, the Committee on Homeland Security and Governmental Affairs of the Senate, and the Office of Management and Budget, pursuant to Appendix I to OMB Circular A-130, “Federal Agency Responsibilities for Maintaining Records About Individuals,” dated November 30, 2000.

The proposed new system of records entitled “Treasury/IRS 42.005—Whistleblower Office Records” is published in its entirety below.

Dated: December 21, 2007.
Peter B. McCarthy,
Assistant Secretary for Management and Chief Financial Officer.

TREASURY/IRS 42.005

SYSTEM NAME:

Whistleblower Office Records.

SYSTEM LOCATION:

Whistleblower Office, Washington, DC, and Ogden Campus, Ogden, Utah.

CATEGORIES OF INDIVIDUALS COVERED BY THE SYSTEM:

These records include information about individuals who submit allegations of possible tax noncompliance and claims for award to the Whistleblower Office (“claimants”), claimants' representatives, and the taxpayers and third parties about whom the information is received, which is pertinent to a claim for award.

CATEGORIES OF RECORDS IN THE SYSTEM:

These records include claimant identity information, allegation information received, claims for award (including supporting information or documentation), information pertaining to any civil or criminal investigation initiated, or expanded, as a result of the allegations received by the Whistleblower Office, any other information pertinent to the Whistleblower Office's determination as to the amount, if any, of any award for which the claimant may be eligible under 26 U.S.C. 7623, including information pertaining to appeals of award determinations to the Tax Court (including the results of such appeals).

AUTHORITY FOR MAINTENANCE OF THE SYSTEM:

26 U.S.C. 7623 and 7801, and 5 U.S.C. 301.

PURPOSE(S):

The records in this system will be used to administer the claimant award program under 26 U.S.C. 7623.

ROUTINE USES OF RECORDS MAINTAINED IN THE SYSTEM INCLUDING CATEGORIES OF USERS AND PURPOSES OF SUCH USES:

Disclosure of returns and return information may be made only as provided by 26 U.S.C. 6103. To the extent authorized by 26 U.S.C. 6103, disclosure may also be made to appropriate agencies, entities, and persons when (1) the Department suspects or has confirmed that the security or confidentiality of information in the system of records has been compromised; (2) the Department has determined that as a result of the suspected or confirmed compromise there is a risk of harm to economic or property interests, identity theft or fraud, or harm to the security or integrity of this system or other systems or programs (whether maintained by the Department or another agency or entity) that rely upon the compromised information; and (3) the disclosure made to such agencies, entities, and persons is reasonably necessary to assist in connection with the Department's efforts to respond to the suspected or confirmed compromise and prevent, minimize, or remedy such harm.

POLICIES AND PRACTICES FOR STORING, RETRIEVING, ACCESSING, RETAINING AND DISPOSING OF RECORDS IN THE SYSTEM:

STORAGE:

Paper records and electronic media.

RETRIEVABILITY:

Data is retrieved by the name or taxpayer identification number of the claimant(s), of the taxpayer(s) who are the subject(s) of the allegation(s), or of third parties identified in the records; the name or Centralized Authorization File (CAF) number of the claimant's representative; or an award claim number assigned by the Whistleblower Office.

SAFEGUARDS:

Only persons authorized by law will have access to these records. Access controls are not less than those published in IRM 10.8.1, Information Technology (IT) Security Policy and Standards and IRM 1.16, Physical Security Program.

RETENTION AND DISPOSAL:

Records are maintained in accordance with IRM 1.15.23, Records Control Schedule for Tax Administration—Examination; Item 13, Reward Claim Cases.

SYSTEM MANAGER(S) AND ADDRESS:

Director, Whistleblower Office, SE:WO, 1111 Constitution Avenue, NW., Washington, DC 20224.

NOTIFICATION PROCEDURE:

This system may not be accessed for purposes of determining whether the system contains a record pertaining to a particular individual; the records are exempt under 5 U.S.C. 552a(k)(2).

RECORDS ACCESS PROCEDURES:

This system may not be accessed for purposes of inspection or to contest the content of records; the records are exempt under 5 U.S.C. 552a(k)(2).

CONTESTING RECORDS PROCEDURES:

26 U.S.C. 7852(e) prohibits Privacy Act amendment of tax records.

RECORDS SOURCE CATEGORIES:

Claimants and their representatives; Department of the Treasury employees and records; newspapers, court records, and other publicly available information.

EXEMPTIONS CLAIMED FOR THE SYSTEM:

This system has been designated as exempt from sections (c)(3), (d)(1)-(4), (e)(1), (e)(4)(G)-(I), and (f) of the Privacy Act pursuant to 5 U.S.C. 552a(k)(2). See 31 CFR 1.36.

[FR Doc. E8-129 Filed 1-8-08; 8:45 am]

BILLING CODE 4830-01-P